NATIONAL ARCHIVES AND RECORDS ADMINISTRATION

36 CFR Parts 1253 and 1280

RIN 3095-AB52

[Docket NARA-06-0007]

Changes in NARA Research Room and Museum Hours

AGENCY: National Archives and Records Administration (NARA).

ACTION: Interim final rule; request for comment.

SUMMARY: NARA is revising its regulations with respect to research room and museum hours at its facilities in the Washington, DC, area. The operating costs for these facilities have been increasing every year, particularly for staffing, security services and utilities. In these times of fiscal restraint, NARA has determined reluctantly that it is necessary to curtail service during time frames when only a small percentage of our users are present to ensure that we are able to provide quality services to customers during the times of greatest public use while we are also conducting other mission-critical duties. This regulation will affect individuals who use our archival research rooms in the National Archives Building and National Archives at College Park facility, and individuals who visit the National Archives Experience and the Rotunda exhibits in the National Archives Building. This rule also makes minor edits to related provisions, which are discussed in the SUPPLEMENTARY INFORMATION section, and adds the archival research room at the National Personnel Records Center to our list of research facilities.

DATES: This interim final rule is effective October 2, 2006. Comments on this interim final rule must be received by September 8, 2006 at the address shown below. NARA intends to publish any changes to the rule resulting from this comment period before the October 2, 2006 effective date.

A public meeting on this interim final rule will be held on August 3, 2006 at 1 p.m. See the ADDRESSES paragraph for additional information.

ADDRESSES: NARA invites interested persons to submit comments on this interim final rule. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

The public meeting will be held at the Jefferson Room in the National Archives Building, Washington, DC 20408, on August 3, 2006 at 1 p.m. Please enter through the Constitution Avenue Special Events entrance (Constitution Ave. NW., between 7th and 9th Streets, NW.). Reservations are not required but space may be limited.

FOR FURTHER INFORMATION CONTACT: Nancy Allard at 301-837-1477 or Jennifer Davis Heaps at 301-837-1801 or via fax number 301-837-0319.

SUPPLEMENTARY INFORMATION: A discussion of the changes we are making in this rule follows.

Research Room Hours in DC Area Facilities

Our research center and Central Research Room in the National Archives Building and the research rooms at the National Archives at College Park facility are currently open for research Monday through Friday from 8:45 a.m. to 5 p.m.; on Tuesday, Thursday and Friday evenings from 5 p.m. to 9 p.m.; and Saturdays from 8:45 a.m. to 4:45 p.m. This interim final rule would eliminate Saturday hours and change the research room hours to 9 a.m. to 5 p.m. on weekdays, more closely reflecting NARA official business hours in those facilities. The new research room hours are specified in §§ 1253.1(a) and 1253.2(b). We are also amending § 1253.8 since we no longer will have Saturday hours.

During the evening and Saturday hours we must provide staff to supervise the seven research rooms and assist researchers. We also require additional security guard presence and incur additional utility costs because the buildings are open to the public. We determined that carrying out the necessary reduction in hours by eliminating evening and Saturday hours would inconvenience the fewest researchers. Researchers who conduct research in original archival records in the evening or on Saturday currently must make a reference request in-person before 3:30 on weekdays to have the records identified and retrieved from the stack areas for their research use; no records are retrieved during those extended hours. NARA had 96,393 researcher visits in FY 2005 in our DC area research rooms. The following charts show that at both facilities, significantly fewer researchers used the research rooms during evening and Saturday hours in FY 2005:

2005 Evening/Saturday Research Room Usage at the National Archives Building
National Archives Building only | Number of researchers: Evening research room usage from 5:30 p.m. forward | Number of researchers: Saturday research room usage | Researchers as a percentage of total researchers during the quarter: Evening research room usage from 5:30 p.m. forward (percent) | Researchers as a percentage of total researchers during the quarter: Saturday research room usage (percent)
Jan-Mar 2005 | 968 | 691 | 14 | 10
Apr-Jun 2005 | 1,061 | 653 | 12 | 8
July-Sep 2005 | 1,268 | 823 | 13 | 8
Oct-Dec 2005 | 966 | 594 | 15 | 9
Total Evening/Saturday Use during 2005 | 4,263 | 2,761 | 13 | 9

2005 Evening/Saturday Research Room Usage at the National Archives at College Park
National Archives at College Park only | Number of researchers: Evening research room usage from 5:30 p.m. forward | Number of researchers: Saturday research room usage | Researchers as a percentage of total researchers during the quarter: Evening research room usage from 5:30 p.m. forward (percent) | Researchers as a percentage of total researchers during the quarter: Saturday research room usage (percent)
Jan-Mar 2005 | 1,992 | 734 | 19 | 7
Apr-Jun 2005 | 2,314 | 798 | 17 | 6
July-Sep 2005 | 2,434 | 817 | 17 | 6
Oct-Dec 2005 | 2,004 | 602 | 17 | 5
Total Evening/Saturday Use during 2005 | 8,744 | 2,951 | 17 | 6

Research Room Hours in Regional Archives

Our regulations only list the core Monday-Friday hours for NARA's regional archives (Tuesday-Saturday hours for the Southeast Region in Morrow, GA) in 36 CFR 1253.7, which are not changing. Currently, most of our regional archives research rooms also are open one evening per week and/or certain Saturdays of the month primarily for microfilm research. Researchers who conduct research in original archival records in the evening or on Saturday must make a reference request in-person before 3:30 on weekdays to have the records identified and retrieved from the stack areas for their research use; no records are retrieved during those extended hours. The extended hours, which are subject to more frequent modification, are listed on the NARA Web site (http://www.archives.gov) and posted in the regional research rooms. In some of the regional archives, we are reducing extended hours beginning October 2, 2006.

We are making one unrelated change to § 1253.7 to add the archival research room at the National Personnel Records Center in St. Louis, MO.

Museum Hours at the National Archives Building

This interim final rule also modifies the hours the exhibit areas in the National Archives Building, Washington, DC, are open to the public. Currently the National Archives Experience (our Washington DC museum) including the Rotunda for the Charters of Freedom (displaying the Declaration of Independence, Constitution, and Bill of Rights) is open to the public as follows:

• The day after Labor Day through March 31, 10 a.m. to 5:30 p.m. (closed on December 25);

• April 1 through the Friday before Memorial Day, 10 a.m. to 7 p.m.;

• Memorial Day weekend through Labor Day, 10 a.m. to 9 p.m.

We are revising § 1280.62 to make the public hours the day after Labor Day through March 14, 10 a.m. to 5:30 p.m., and March 15 through Labor Day, 10 a.m. to 7 p.m. The building will be closed on Thanksgiving and December 25. In addition, because transit through the building and through the line to view the Charters of Freedom cannot usually be completed in less than a 30 minute visit, we are establishing a policy of “last admission” at least 30 minutes before close. This policy, which is followed by many museums, will allow us to clear the exhibit areas of visitors at the stated closing time and ensure that visitors coming into the building have at least some opportunity to see the Charters of Freedom. Finally, because the renovation of the National Archives Building provides direct street-level access to the building entrance on Constitution Avenue, we are rewording § 1280.60 to remove directions for disabled and persons with strollers to use the Pennsylvania Avenue entrance to the building.

Although we are reducing the hours exhibit areas in the National Archives Building, Washington, DC, are open during the summer months (Memorial Day through Labor Day), the new summer hours are consistent with those at the National Museum of American History (10 a.m.-6:30 p.m.). We have found that the last two hours of the day in the summer have the lowest average attendance, so this action will affect the fewest visitors on those days. By changing to a two season calendar with the high season beginning March 15, we are increasing the hours the exhibit areas are open during peak demand (school break, Cherry Blossom Festival) in late March. As with the change in research room hours, the changes in hours for the exhibit areas will significantly reduce our security guard expenses.

As we noted in the SUMMARY paragraph of this preamble, NARA must carry out multiple mission-critical activities. There are many actions that must be carried out in order to provide access to archival records in NARA research rooms; to assist researchers via on-line descriptions in our Archival Research Catalog or via written reference requests; and to develop public programs and exhibits. When archival records are transferred to NARA's custody from the creating agency or at the end of a Presidential Administration, NARA staff must organize these records, assess and address their condition, carry out declassification review on them as needed, describe them, and otherwise prepare them for safe and efficient use by researchers. The actions that we are taking in this interim final rule will assist us in conducting all of our mission-critical programs.

The issuance of an “interim-final rule” may be followed under the “good-cause” exemption of 5 U.S.C. 553(b)(3)(B) as “impracticable” or “contrary to the public interest.” In this instance, good cause exists because NARA must institute these changes at the beginning of the next fiscal year, which does not leave sufficient time for NARA to issue a final rule following the 45 day comment period under this notice.

This rule is not a significant regulatory action for the purposes of Executive Order 12866 and has not been reviewed by the Office of Management and Budget. As required by the Regulatory Flexibility Act, I certify that this rule will not have a significant impact on a substantial number of small entities because it affects individual researchers and museum visitors. This regulation does not have any federalism implications. This rule is not a major rule as defined in 5 U.S.C. Chapter 8, Congressional Review of Agency Rulemaking.

List of Subjects

36 CFR Part 1253

Archives and records.

36 CFR Part 1280

Federal buildings and facilities.

For the reasons set forth in the preamble, NARA amends chapter XII of title 36, Code of Federal Regulations, as follows:

PART 1253—LOCATION OF NARA FACILITIES AND HOURS OF USE

1. The authority citation for part 1253 continues to read as follows:

Authority: 44 U.S.C. 2104(a).

2. Amend § 1253.1 by revising paragraph (a) to read as follows:

§ 1253.1 National Archives Building.

(a) The National Archives Building is located at 700 Pennsylvania Avenue, NW., Washington, DC 20408. Business hours are 8:45 a.m. to 5:15 p.m., Monday through Friday, except Federal holidays when the building is closed. Hours for the Research Center and the Central Research room are 9 a.m. to 5 p.m., Monday through Friday, except Federal holidays.

* * * * *

2. Amend § 1253.2 by revising paragraph (b) to read as follows:

§ 1253.2 National Archives at College Park.

* * * * *

(b) Research complex hours are 9 a.m. to 5 p.m., Monday through Friday, except Federal holidays.

* * * * *

3. Amend § 1253.7 by adding a new paragraph (n) to read as follows:

§ 1253.7 Regional Archives.

* * * * *

(n) National Personnel Records Center archival research room is located at 9700 Page Ave., St. Louis, MO 63132-5100. The hours are 10 a.m. to 4 p.m., Tuesday through Friday, except Federal holidays.

4. Revise § 1253.8 to read as follows:

§ 1253.8 Are NARA research room facilities closed on Federal holidays?

NARA research room facilities are closed on all Federal holidays.

PART 1280—PUBLIC USE OF NARA FACILITIES

5. The authority citation for part 1280 continues to read as follows:

Authority: 44 U.S.C. 2102 notes, 2104(a), 2112(a)(1)(A)(iii), 2903.

6. Amend § 1280.60 by revising paragraph (b) to read as follows:

§ 1280.60 Where do I enter the National Archives Building in Washington, DC?

* * * * *

(b) To visit the exhibit areas of the National Archives Building, including the National Archives Experience and Rotunda, you must enter through the Constitution Avenue entrance.

7. Revise § 1280.62 to read as follows:

§ 1280.62 When are the exhibit areas in the National Archives Building open?

The exhibit areas are open to the public from 10 a.m. until 5:30 p.m. from the day after Labor Day through March 14. The exhibit areas are open from 10 a.m. until 7 p.m. from March 15 through Labor Day. Last admission to the exhibit areas of the building will be no later than 30 minutes before the stated closing hour. The Archivist of the United States reserves the authority to close the exhibit areas to the public at any time for special events or other purposes. The building is closed on Thanksgiving and December 25.

Dated: July 18, 2006.
Allen Weinstein,
Archivist of the United States.

[FR Doc. E6-11763 Filed 7-24-06; 8:45 am]

BILLING CODE 7515-01-P